DEPARTMENT OF TRANSPORTATION

Federal Aviation Administration

Approval of Noise Compatibility Program for Chicago Executive Airport, Prospect Heights and Wheeling, IL

AGENCY: Federal Aviation Administration, DOT.

ACTION: Notice.

SUMMARY: The Federal Aviation Administration (FAA) announces its findings on the noise compatibility program (NCP) submitted by the Chicago Executive Airport Board of Directors for Chicago Executive Airport under the provisions of 49 U.S.C. 47501 et seq. (the Aviation Safety and Noise Abatement Act, herein referred to as “the Act”) and 14 CFR part 150. On March 1, 2010, the FAA determined that the noise exposure maps submitted by Chicago Executive Airport Board of Directors for Chicago Executive Airport were in compliance with applicable requirements. On September 30, 2010, the FAA approved the Chicago Executive Airport noise compatibility program. Twenty-one of the twenty-seven recommendations of the program were approved.

DATES: Effective Date: The effective date of the FAA's approval of the Chicago Executive Airport noise compatibility program is September 30, 2010.

FOR FURTHER INFORMATION CONTACT: Ms. Amy Hanson, Environmental Protection Specialist, CHI-603, Federal Aviation Administration, Chicago Airport District Office, 2300 East Devon Avenue, Des Plaines, IL 60018. Telephone number: 847-294-7354. Documents reflecting this FAA action may also be reviewed at this same location.

SUPPLEMENTARY INFORMATION: This notice announces that the FAA has given its approval to the Noise Compatibility Program for Chicago Executive Airport, effective October 1, 2010.

The Chicago Executive Airport Board of Directors for Chicago Executive Airport submitted to the FAA the noise exposure maps, descriptions, and other documentation produced during the noise compatibility study. The Chicago Executive Airport noise exposure maps were determined by the FAA to be in compliance with applicable requirements on March 1, 2010. Notice of this determination was published in the Federal Register on March 12, 2010, Volume 75, Number 48, pages 11990 and 11991.

Under section 47504 of the Act, an airport operator who has previously submitted a noise exposure map may submit to the FAA a noise compatibility program which sets forth the measures taken or proposed by the airport operator for the reduction of existing non-compatible land uses and prevention of additional non-compatible land uses within the area covered by the noise exposure maps. The Act requires such programs to be developed in consultation with interested and affected parties including local communities, government agencies, airport users, and FAA personnel.

Each airport noise compatibility program developed in accordance with Federal Aviation Regulations (FAR) Part 150 is a local program. The FAA does not substitute its judgment for that of the airport proprietor with respect to which measures should be recommended for action. The FAA's approval or disapproval of FAR Part 150 program recommendations is measured according to the standards expressed in Part 150 of the Act and is limited to the following determinations:

a. The noise compatibility program was developed in accordance with the provisions and procedures of FAR Part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grants agreements, or intrude into areas preempted by the Federal Government; and

d. Program measures relating to the use of flight procedures can be implemented within the period covered by the program without derogating safety, adversely affecting the efficient use of navigable airspace and air traffic control systems, or adversely affecting other powers and responsibilities of the Administrator prescribed by law.

The submitted program included twenty-seven proposed actions for noise mitigation on and off the airport, as applicable. The FAA completed is review and determined that the procedural and substantive requirements of the Act and FAR Part 150 have been satisfied.

On October 1, 2010, the FAA approved the Chicago Executive Airport noise compatibility program. Twenty-one of the twenty-seven recommendations of the program were approved.

Specific limitations with respect to FAA's approval of an airport noise compatibility program are delineated in FAR Part 150, section 150.5. Approval is not a determination concerning the acceptability of land uses under Federal, State, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA. Where Federal funding is sought, requests for project grants must be submitted to the FAA Chicago Airports District Office.

These determinations are set forth in detail in a Record of Approval signed by Susan Schalk on October 1, 2010. The Record of Approval, as well as other evaluation materials and the documents comprising the submittal, are available for review at the FAA office listed above and at the administrative offices of the Chicago Executive Airport. The Record of Approval also will be available online at: http://www.faa.gov/airports/environmental/airport_noise/part_150/states/.

Issued in Des Plaines, IL, October 6, 2010.
James G. Keefer,
Manager, Chicago Airports District Office.

[FR Doc. 2010-26324 Filed 10-18-10; 8:45 am]

BILLING CODE 4910-13-P